DEPARTMENT OF THE INTERIOR

Bureau of Land Management

[LLCOF00000 L19900000.PO0000-14X]

Notice of Public Meeting, Rio Grande Natural Area Commission Meetings

AGENCY: Bureau of Land Management, Interior.

ACTION: Notice of public meetings.

SUMMARY: In accordance with the Federal Land Policy and Management Act and the Federal Advisory Committee Act of 1972, the U.S. Department of the Interior, Bureau of Land Management (BLM) Rio Grande Natural Area Commission will meet as indicated below.

DATES: The Rio Grande Natural Area Commission will meet March 13, June 12, September 11 and December 11, 2014. Each meeting will begin at 10 a.m. and adjourn at approximately 3:30 p.m., with public comment periods regarding matters on the agenda at 10:15 a.m. Agendas will be available before the meeting at www.blm.gov/co/st/en/fo/slvfo/rio_grande_natural/rgna_commission_meeting.html.

ADDRESSES: Rio Grande Water Conservation District Office, 10900 East U.S. Highway 160, Alamosa, CO 81101.

FOR FURTHER INFORMATION CONTACT: Kyle Sullivan, Public Affairs Specialist, Royal Gorge Field Office, 3028 E Main Street, Cañon City, CO 81212; (719)-269-8553. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The Rio Grande Natural Area Commission was established in the Rio Grande Natural Area Act (16 U.S.C. 460rrr-2). The nine-member commission advises the Secretary of the Interior, through the BLM, concerning the preparation and implementation of a management plan for non-Federal land in the Rio Grande Natural Area, as directed by law. Planned agenda topics for the meetings include finalizing the draft management plan, conducting public outreach for the plan and discussing property boundaries with the Rio Grande Natural Area. The public may offer oral comments at 10:15 a.m. or written statements, which may be submitted for the Commission's consideration. Depending on the number of persons wishing to comment and time available, the time for individual oral comments may be limited. Summary minutes for the meetings will be maintained in the San Luis Valley Field Office and will be available for public inspection and reproduction during regular business hours within 30 days following the meeting. Meeting minutes and agendas are also available at: www.blm.gov/co/st/en/fo/slvfo.html.

John Mehlhoff,
BLM Colorado Acting State Director.

[FR Doc. 2014-01527 Filed 1-27-14; 8:45 am]

BILLING CODE 4310-JB-P